DEPARTMENT OF DEFENSE

Department of the Navy

Notice of Intent To Prepare an Environmental Impact Statement/Overseas Environmental Impact Statement for Navy Training Operations in the Northwest Training Range Complex and Notice of Public Scoping Meetings

AGENCY: Department of the Navy, DoD.

ACTION: Notice.

SUMMARY: Pursuant to section 102(2)(c) of the National Environmental Policy Act (NEPA) of 1969, as implemented by the Council on Environmental Quality Regulations (40 CFR Parts 1500-1508), and Executive Order 12114, the Department of the Navy (Navy) announces its intent to prepare an Environmental Impact Statement (EIS)/Overseas EIS to evaluate the potential environmental effects of maintaining Fleet readiness through the use of the Northwest Training Range Complex (NWTRC) to support current, emerging, and future training activities. The proposed action serves to implement range enhancements to upgrade and modernize range capabilities within the NWTRC thereby ensuring critical Fleet requirements are met. The Navy will invite the U.S. Fish and Wildlife Service and National Marine Fisheries Service to be cooperating agencies in preparation of this EIS/OEIS.

DATES AND ADDRESSES: Five public scoping meetings will be held in Washington, Oregon and California to receive oral and written comments on environmental concerns that should be addressed in the EIS/OEIS. Public scoping meetings will be held at the following dates, times and locations: September 10, 2007, from 6 p.m. to 9 p.m. at Coachman Inn, 32959 State Route 20, Oak Harbor, Washington, September 11, 2007, from 6 p.m. to 9 p.m., at Pacific Beach Fire Hall, 4586 State Route 109, Pacific Beach, Washington, September 12, 2007, from 6 p.m. to 9 p.m., at Grays Harbor College Cafeteria, 1620 Edward P. Smith Drive, Aberdeen, Washington, September 13, 2007, from 6 p.m. to 9 p.m., at Spouting Horn Restaurant, 110 Southeast Highway 101, Depoe Bay, Oregon, and September 15, 2007, from 6 p.m. to 9 p.m., at Eureka's Women's Club, 1531 J Street, Eureka, California.

Each of the five scoping meetings will consist of an informal, open house session with information stations staffed by Navy representatives. Details of the meeting locations and time will be announced in local newspapers. Additional information concerning meeting times will be available on the EIS/OEIS web page located at: http://www.NWTRangeComplexEIS.com.

FOR FURTHER INFORMATION CONTACT: Kimberly Kler, Naval Facilities Engineering Command, Northwest, Attention: NWTRC EIS/OEIS, 1101 Tautog Circle Suite 203, Silverdale, Washington, 98315-1101.

SUPPLEMENTARY INFORMATION: The NWTRC consists of airspace, surface operating areas, and land range facilities in the Pacific Northwest. Components of the NWTRC encompass 126,630 nm² of surface/subsurface ocean operating area, 33,997 nm² of special use airspace, and 22 nm² of restricted airspace. The EIS/OEIS study area lies within the NWTRC, and encompasses surface and subsurface ocean operating areas, land training areas and special use airspace in Washington, and over-ocean special use airspace offshore of Washington, Oregon and northern California. These ranges and operating areas are used to conduct training involving military hardware, personnel, tactics, munitions, explosives, and electronic combat systems. The NWTRC serves as a backyard range for those units homeported in the Pacific Northwest area including those aviation, surface ship, submarine, and Explosive Ordnance Disposal units homeported at Naval Air Station Whidbey Island, Naval Station Everett, Naval Base Kitsap—Bremerton, Naval Base Kitsap—Bangor, and Puget Sound Naval Shipyard.

The purpose of the Proposed Action is to: (1) Achieve and maintain Fleet readiness using the NWTRC to support and conduct current, emerging, and future training activities and research, development, test, and evaluation (RDT&E) events (primarily unmanned aerial vehicles); (2) expand warfare missions supported by the NWTRC, consistent with the requirements of the Fleet Readiness Training Plan (FRTP) and other transformation initiatives; and (3) upgrade and modernize existing range capabilities to enhance and sustain Navy training and RDT&E.

The need for the Proposed Action is to: (1) Maintain current levels of military readiness by training in the NWTRC; (2) accommodate future increases in operational training tempo in the NWTRC and support the rapid deployment of naval units or strike groups; (3) achieve and sustain readiness of ships, submarines, and aviation squadrons using the NWTRC so that they can quickly surge significant combat power in the event of a national crisis or contingency operation and consistent with the FRTP; (4) support the acquisition and implementation of advance military technology into the Fleet; (5) identify shortfalls in range capabilities, particularly training infrastructure and instrumentation, and address through range investments and enhancements; and (6) maintain the long-term viability of the NWTRC while protecting human health and the environment and enhancing the quality and communication capability and safety of the range complex.

The No Action Alternative is the continuation of training and RDT&E. Alternative 1 consists of an increase in the number of training activities from baseline levels and force structure changes associated with the introduction of new weapon systems, vessels, and aircraft into the Fleet. Alternative 2 consists of all elements of Alternative 1. In addition, Alternative 2 includes an increase in the number of training activities over Alternative 1 levels and implementation of range enhancements.

Environmental issues that will be addressed in the EIS/OEIS, as applicable, include but are not limited to: air quality; airspace; biological resources, including threatened and endangered species; cultural resources; geology and soils; hazardous materials and waste; health and safety; land use; noise; socioeconomics; transportation; and water resources.

The Navy is initiating the scoping process to identify community concerns and local issues that will be addressed in the EIS/OEIS. Federal agencies, state agencies, and local agencies, Native American Indian Tribes and Nations, the public, and interested persons are encouraged to provide oral and/or written comments to the Navy to identify specific issues or topics of environmental concern that the commenter believes the Navy should consider. All comments, written or provided orally at the scoping meetings, will receive the same consideration during EIS/OEIS preparation. Written comments must be postmarked no later than September 29, 2007, and should be mailed to: Naval Facilities Engineering Command, Northwest, 1101 Tautog Circle, Suite 203, Silverdale, Washington, 98315-1101, Attention: Ms. Kimberly Kler—NWTRC EIS/OEIS.

Dated: July 25, 2007.
M.C. Holley,
Lieutenant Commander, Office of the Judge Advocate General, U.S. Navy, Administrative Law Division, Alternate Federal Register Liaison Officer.

[FR Doc. E7-14784 Filed 7-30-07; 8:45 am]

BILLING CODE 3810-FF-P